DEPARTMENT OF JUSTICE

Drug Enforcement Administration

Order Rescinding Final Order Denying Application for Registration Submitted by Steven J. Watterson

On May 21, 2001, an Order to Show Cause was issued to Steven J. Watterson proposing to deny his application for registration as researcher in controlled substances. Subsequently on May 17, 2002, a final order was published in the Federal Register at 67 FR 35,136, indicating that Mr. Watterson had not responded to the Order to Show Cause and had therefore waived his opportunity for a hearing. Noting that the applicant had waived his right to a hearing, the Deputy Administrator found that Mr. Watterson's application should be denied.

Subsequent to the final order being published in this matter, it was brought to the Deputy Administrator's attention that Mr. Watterson had been in contact with an official at DEA headquarters and had not requested a hearing because Mr. Watterson was under a misapprehension, caused in part by conflicting guidance being given to Mr. Watterson by the DEA official concerning how and when the matter would be resolved.

Inasmuch as it appears that Mr. Watterson had contacted DEA in this matter and received contradictory direction, a default judgment was not appropriate and the final order should not have been issued. The Deputy Administrator of the Drug Enforcement Administration therefore orders that the final order published May 17, 2002, at 67 FR 35,136 be, and it hereby is, rescinded, and this matter is hereby remanded to the Office of Diversion Control, Drug Enforcement Administration, for further appropriate proceedings. This order is effective upon publication.

Dated: October 15, 2002.
John B. Brown, III,
Deputy Administrator.

[FR Doc. 02-28066 Filed 11-4-02; 8:45 am]

BILLING CODE 4410-09-M